NUCLEAR REGULATORY COMMISSION

Sunshine Act Meeting

Date: Weeks of February 2, 9, 16, 23, March 1, 8, 2004.

Place: Commissioners' Conference Room, 11555 Rockville Pike, Rockville, Maryland.

Status: Public and Closed.

Matters To Be Considered:

Week of February 2, 2004

There are no meetings scheduled for the Week of February 2, 2004.

Week of February 9, 2004—Tentative

There are no meetings scheduled for the Week of February 9, 2004.

Week of February 16, 2004—Tentative

Wednesday, February 18, 2004

9:30 a.m.

Briefing on Status of Office of Chief Financial Officer Programs, Performance, and Plans (Public Meeting) (Contact: Edward L. New, 301-415-5646)

This meeting will be webcast live at the Web address: http://www.nrc.gov.

Week of February 23, 2004—Tentative

Wednesday, February 25, 2004

9 a.m.

Discussion of Security Issues (Closed—Ex. 1)

Thursday, February 26, 2004

9:30 a.m.

Meeting with UK Regulators to Discuss Security Issues (Closed—Ex. 1)

Week of March 1, 2004—Tentative

Tuesday, March 2, 2004

9:30 a.m.

Meeting with Advisory Committee on the Medical Uses of Isotopes (ACMUI) & NRC Staff (Public Meeting) (Contact: Angela Williamson, 301-415-5030)

This meeting will be webcast live at the Web address: http://www.nrc.gov.

Wednesday, March 3, 2004

9:30 a.m.

25th Anniversary Three Mile Island (TMI) Unit 2 Accident Presentation (Public Meeting) (Contact: Sam Walker, 301-415-1965)

This meeting will be webcast live at the Web address: http://www.nrc.gov.

2:45 p.m.

Discussion of Security Issues (Closed—Ex. 1)

Thursday, March 4, 2004

1:30 p.m.

Briefing on Status of Office of Nuclear Material Safety and Safeguards (NMSS) Programs, Performance, and Plans—Waste Safety (Public Meeting) (Contact: Claudia Seelig, 301-415-7243)

This meeting will be webcast live at the Web address: http://www.nrc.gov.

Week of March 8, 2004—Tentative

Tuesday, March 9, 2004

9:30 a.m.

Briefing on Status of Office of Nuclear Material Safety and Safeguards (NMSS) Programs, Performance, and Plans—Material Safety (Public Meeting) (Contact: Claudia Seelig, 301-415-7243)

This meeting will be webcast live at the Web address: http://www.nrc.gov.

1:30 p.m.

Discussion of Security Issues (Closed—Ex. 1)

The schedule for Commission meetings is subject to change on short notice. To verify the status of meetings call (recording)—(301) 415-1292. Contact person for more information: Timothy J. Frye, (301) 415-1651.

The NRC Commission Meeting Schedule can be found on the Internet at: http://www.nrc.gov/what-we-do/policy-making/schedule.html.

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: January 29, 2004.
Timothy J. Frye,
Technical Coordinator, Office of the Secretary.

[FR Doc. 04-2238 Filed 1-30-04; 10:12 am]

BILLING CODE 7590-01-M